DEPARTMENT OF DEFENSE

Office of the Secretary

[Transmittal No. 24-101]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-101, Policy Justification, and Sensitivity of Technology.

Dated: November 18, 2025.
Stephanie J. Bost,
Alternate OSD Federal Register Liaison Officer, Department of Defense.

Transmittal No. 24-101

Notice of Proposed Issuance of Letter of Offer Pursuant to Section 36(b)(1) of the Arms Export Control Act, as amended

(i) Prospective Purchaser: Government of India

(ii) Total Estimated Value:

Major Defense Equipment * | $100 million
Other | $ 75 million
TOTAL | $175 million

Funding Source: National Funds

(iii) Description and Quantity or Quantities of Articles or Services under Consideration for Purchase:

Major Defense Equipment (MDE):

Fifty-three (53) MK 54 MOD 0 Lightweight Torpedo all up rounds

Non-Major Defense Equipment:

The following non-MDE items will also be included: Recoverable Exercise Torpedoes (REXTORP); air launch accessories; classified and unclassified torpedo spare parts; torpedo containers; torpedo support equipment, including test equipment and tools; torpedo support services; classified and unclassified books and other publications; other technical assistance, including technical support, technical program management, infrastructure support, test equipment sustainment, exercise firing assistance, contract management, and initial follow-on-technical support (FOTS); in-country torpedo training; related equipment and services; and other related elements of logistics and program support.

(iv) Military Department: Navy (IN-P-ABV)

(v) Prior Related Cases, if any: IN-P-AAR

(vi) Sales Commission, Fee, etc., Paid, Offered, or Agreed to be Paid: None

(vii) Sensitivity of Technology Contained in the Defense Article or Defense Services Proposed to be Sold: See Attached Annex

(viii) Date Report Delivered to Congress: October 7, 2024

* as defined in Section 47(6) of the Arms Export Control Act.

POLICY JUSTIFICATION

India—MK 54 MOD 0 Lightweight Torpedoes

The Government of India has requested to buy fifty-three (53) MK 54 MOD 0 Lightweight Torpedo all up rounds. The following non-MDE items will also be included: Recoverable Exercise Torpedoes (REXTORP); air launch accessories; classified and unclassified torpedo spare parts; torpedo containers; torpedo support equipment, including test equipment and tools; torpedo support services; classified and unclassified books and other publications; other technical assistance, including technical support, technical program management, infrastructure support, test equipment sustainment, exercise firing assistance, contract management, and initial follow-on-technical support (FOTS); in-country torpedo training; related equipment and services; and other related elements of logistics and program support. The estimated total cost is $175 million.

This proposed sale will support the foreign policy and national security objectives of the United States (U.S.) by helping to strengthen the U.S.-India strategic relationship and improving the security of a major defense partner which continues to be an important force for political stability, peace, and economic progress in the Indo-Pacific and South Asia regions.

The proposed sale will improve India's capability to meet current and future threats by increasing the size of its anti-submarine weapons stockpile for its MH-60R helicopters. The Indian Navy already possesses MK 54 MOD 0 Lightweight Torpedoes and will have no difficulty absorbing this equipment into its armed forces.

The proposed sale of this equipment and support will not alter the basic military balance in the region.

A majority of the lightweight torpedo's hardware will be purchased directly from U.S. Navy stock. There is no known offset agreement proposed in connection with this potential sale.

Implementation of this proposed sale may require the temporary assignment of an estimated 12 U.S. Government and 1 contractor representative to India per year, on an interim basis, for training and technical assistance, after case implementation.

There will be no adverse impact on U.S. defense readiness as a result of this proposed sale.

Transmittal No. 24-101

Notice of Proposed Issuance of Letter of Offer Pursuant to Section 36(b)(1) of the Arms Export Control Act

Annex

Item No. vii

(vii) Sensitivity of Technology:

1. The MK 54 MOD 0 Lightweight Torpedo is a conventional torpedo that can be launched from surface ships and rotary and fixed wing aircraft. It is an upgrade from the MK 46 torpedo and has modernized sonar and guidance and control systems. The new guidance and control system uses a mixture of commercial-off-the-shelf and custom-built electronics. The warhead, fuel tank, and propulsion system from the MK 46 torpedo are re-used in the MK 54 MOD 0 configuration with minor modifications.

2. The highest level of classification of defense articles, components, and services included in this potential sale is SECRET.

3. If a technologically advanced adversary were to obtain knowledge of the specific hardware or software elements, the information could be used to develop countermeasures that might reduce weapon system effectiveness or be used in the development of a system with similar or advanced capabilities.

4. A determination has been made that India can provide substantially the same degree of protection for the sensitive technology being released as the U.S. Government. This sale is necessary in furtherance of the U.S. foreign policy and national security objectives outlined in the Policy Justification.

5. All defense articles and services listed in this transmittal are authorized for release and export to the Government of India.

[FR Doc. 2025-20502 Filed 11-20-25; 8:45 am]

BILLING CODE 6001-FR-P